DEPARTMENT OF AGRICULTURE

Forest Service

Revised Payments Table Related to Secure Rural Schools and Community Self-Determination Act of 2000 and Opportunity for Counties To Change Payment Election Decisions

AGENCY: Forest Service, USDA.

ACTION: Notice.

SUMMARY: The Secure Rural Schools and Community Self-Determination Act of 2000 provides counties that receive payments under the 25 percent fund with the option of receiving their share of the State's full payment amount (as defined by the act), in lieu of the 25 percent fund payments. In 2000, the Forest Service provided a table displaying the dollar amounts for revenues distributed to each State by year and county. Counties used this table in making their election decisions for payments. As directed by the Agriculture Appropriations Act for Fiscal Year 2002, the Forest Service has revised this table, which incorrectly accounted for certain mineral revenues for some States. The agency submitted the revised table to Congress along with a report explaining the issues and the revision process. This notice provides information regarding the availability of the revised table and report, and notifies counties of the 90-day period during which they may change their payment elections.

DATES: Changes to county election decisions must be received in writing on or before October 29, 2002.

ADDRESSES: Counties wishing to change their payment election decisions should do so in writing to Michael Morton, USDA Forest Service, Financial Management Staff (Mail Stop 1139), 1400 Independence Avenue, SW., Washington, DC 20250-1139 (e-mail: mpmorton@fs.fed.us; facsimile: 703-605-5264). The revised payments table and accompanying report are available electronically from the Forest Service via the World Wide Web/Internet at http://www.fs.fed.us/payments. Single paper copies of the revised payments table and report also are available by contacting Tom Quinn, USDA Forest Service, Policy Analysis Staff (Mail Stop 1131), 1400 Independence Avenue, SW., Washington, DC 20250-1131 (e-mail: tquinn01@fs.fed.us).

FOR FURTHER INFORMATION CONTACT: Tom Quinn (202-205-0846) or Maitland Sharpe (202-205-0932), Policy Analysis Staff, or Michael Morton (703-605-4724), Financial Management Staff.

SUPPLEMENTARY INFORMATION: The Secure Rural Schools and Community Self-Determination Act of 2000 (Public Law 106-393) provides counties that received payments under the 25 Percent Fund Act of 1908 (16 U.S.C. 500) with the option of receiving their share of the State's full payment amount (as defined by the act), in lieu of the 25 percent fund payments. The Forest Service provided a table displaying each State's full payment amount and an associated county distribution in 2000 to Congress and affected counties. The table also was made available electronically on the agency's World Wide Web/Internet web site and other web sites. The counties used this table in making their election decisions regarding the option to receive their share of the State's full payment amount (as defined by the act) in lieu of the 25 percent fund payment.

Subsequently, it was determined that certain mineral revenues for some States were incorrectly accounted for in the table. Therefore, as directed by the Agriculture Appropriations Act for Fiscal Year 2002, the Forest Service has revised the payments table and prepared a report outlining the process used to revise the table consistent with the Congressional direction. The agency has submitted the revised payments table and accompanying report to Congress and has made the documents available electronically as set out in the ADDRESSES section of this notice.

Congress specified that if the revised table results in a reduced full payment amount share for an eligible county that elected to receive its share of the state's full payment amount, the eligible county shall have a 90-day period, beginning on the date the revised table is first made available to the public, during which to reconsider and change its election.

As directed by the Congress, the Forest Service has worked with the U.S. Department of the Interior, Minerals Management Service (MMS) to use the best available information to revise the payments table. The analysis resulted in changes in the payments table for 16 States: Alabama, Arkansas, Florida, Illinois, Kentucky, Louisiana, Michigan, Minnesota, Mississippi, Missouri, New Mexico, Ohio, Oklahoma, Texas, Virginia, and West Virginia. Although each of these 16 States is affected to varying degrees, the effects of the revisions are most evident on a state-wide basis for Arkansas, Kentucky, Louisiana, Ohio, Oklahoma, and Missouri; the latter being the only State with a large increase in the full payment amount. By far the largest decline in the full payment amount is for Arkansas, with a potential reduction of $1.003 million if all counties choose the full payment amount. For the first two years of Public Law 106-393 implementation, 14 of the 29 eligible counties in Arkansas elected the full payment amount; therefore the actual reduction for this period would be $651,600.

It is possible that States with substantial hard-rock revenues (such as Missouri) would no longer receive payments for these minerals from the MMS for the counties choosing the full payment amount, which could result in large reductions in the total payments received by these States. In the case of Missouri, if all counties choose the full payment amount, MMS payments could drop by upwards of $1 million annually. The decision on whether payments for hard-rock minerals will continue rests with the MMS and the Department of the Interior.

The revised table redistributes each State's full payment amount based on the National Forest location of the relevant minerals and the counties within those forests. In some States (for example, Michigan), this redistribution can result in significant effects on individual counties' payments even while the State's total full payment amount remains essentially unchanged.

Dated: July 24, 2002.
Sally D. Collins,
Associate Chief.

[FR Doc. 02-19281 Filed 7-30-02; 8:45 am]

BILLING CODE 3410-11-P